DEPARTMENT OF JUSTICE

Antitrust Division

Notice Pursuant to the National Cooperative Research and Production Act of 1993; National Spectrum Consortium

Notice is hereby given that, on September 24, 2014, pursuant to Section 6(a) of the National Cooperative Research and Production Act of 1993, 15 U.S.C. 4301 et seq. (“the Act”), National Spectrum Consortium (“NSC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ADS Corporation, Arlington, VA; AEA, Inc., Anacortes, WA; ATDI Government Services, LLC, Fairfax, VA; BAE Systems, Nashua, NH; Carnegie Mellon University, Pittsburgh, PA; Cognitive Radio Technologies, LLC, Lynchburg, VA; Comsearch, Warren, RI; Darkblade Systems Corporation, Stafford, VA; Disney/ABC TV Group, New York, NY; Draper Laboratory, Cambridge, MA; Eigen Wireless, Liberty Lake, WA; Exelis, Inc., McLean, VA; Federated Wireless, Boston, MA; Georgia Tech Applied Research Corporation, Atlanta, GA; Gonzaga University, Spokane, WA; Honeywell, Morristown, NJ; Hughes Network Systems, Gaithersburg, MD; ICF International, Fairfax, VA; Innovative Solutions Consortium, Leesburg, VA; Lockheed Martin Corporation, Washington, DC; Monterey Consultants, Inc., Dayton, OH; Nokia Networks, Chicago, IL; Northrop Grumman Corporation, Falls Church, VA; Nouveau Innovation Alliance, LLC, Dayton, OH; Oceus Networks, Reston, VA; Peha Consulting, Washington, DC; Raytheon BBN Technologies, Cambridge, MA; Roberson and Associates, LLC, Chicago, IL; Rockwell Collins, Inc., Cedar Rapids, IA; Rumpf Associates International, Inc., Alexandria, VA; S2 Corporation, Bozeman, MT; SECUTOR US, LLC, Clifton, VA; Shared Spectrum Corporation, Vienna, VA; Shenandoah Research and Technology, Luray, VA; Silvus Technologies, Los Angeles, CA; Space Data Association, Malvern, PA; Spectronn, Holmdel, NJ; SRC, Inc., North Syracuse, NY; Stat Tech, Inc, Alexandria, VA; Stevens Institute of Technology, Hoboken, NJ; Strategic Contrivance, LLC, Annandale, VA; TCI International, Inc., Fremont, CA; Telecommunications Industry Association (TIA), Washington, DC; Test Equipment Plus, Inc., La Center, WA; University of Illinois, Urbana, IL; University of Kansas, Lawrence, KS; University of Mississippi, Oxford, MS; University of Nebraska-Lincoln, Lincoln, NE; University of Oklahoma, Norman, OK; University of Pittsburgh, Pittsburgh, PA; University of Washington, Seattle, WA; URS Federal Support Services, Inc., Germantown, MD; VA Tech Applied Research Corporation, Blacksburg, VA; Vanu, Inc., Cambridge, MA; VIStology, Inc. Framingham, MA; Wireless Innovation Forum, Reston, VA; and xG Technology Inc., Sarasota, FL. The general areas of NSC's planned activities are (i) maturing technologies that assist in improved electromagnetic spectrum awareness, sharing, and use; (ii) experimentation to better inform the optimal allocation of those technologies for both public and private objectives; (iii) demonstration of new technologies to increase trust among spectrum stakeholders; and (iv) policy development to ensure technologies do not outpace the appropriate guidance for their best use.

Patricia A. Brink,
Director of Civil Enforcement, Antitrust Division.

[FR Doc. 2014-26105 Filed 11-3-14; 8:45 am]

BILLING CODE P